DEPARTMENT OF THE INTERIOR

Bureau of Reclamation

Reservoir Operations To Benefit Endangered Fishes in the Gunnison and Colorado Rivers, Aspinall Unit, Colorado River Storage Project, Colorado

AGENCY: Bureau of Reclamation, Interior.

ACTION: Notice of intent to prepare a Draft Environmental Impact Statement and announcement of public scoping meetings.

SUMMARY: Pursuant to the National Environmental Policy Act (NEPA) of 1969, as amended, the Bureau of Reclamation (Reclamation) intends to prepare a draft environmental impact statement (EIS) to describe potential effects of operational changes for the Aspinall Unit that are related to compliance with the Endangered Species Act (ESA). Reclamation is the lead Federal agency for NEPA compliance for the proposed Federal action.

DATES AND ADDRESSES: To receive input from interested agencies, organizations, and individuals, public scoping meetings will be held in Gunnison, Delta, and Grand Junction, Colorado. Scoping is an early and public process for determining the issues to be addressed and for identifying any significant issues and suggested alternatives related to the proposed Federal action. The scoping period will be open from January 21, 2004 to March 15, 2004. Public scoping meetings will be held at the following times and locations:

• February 24, 2004-6:30 to 9 p.m., Gunnison County Multipurpose Building (Fairgrounds), 275 South Spruce Street, Gunnison, Colorado.

• February 25, 2004-6:30 to 9 p.m., Delta Middle School Auditorium, 822 Grand Avenue, Delta, Colorado.

• February 26, 2004-6:30 to 9 p.m., Mesa State College, Liff Auditorium, 12th and Elm Street, Grand Junction, Colorado.

Reclamation also invites written comments during the scoping period. Written comments regarding the scope and content of the draft EIS should be sent directly to Ed Warner, Bureau of Reclamation, Western Colorado Area Office, 2764 Compass Drive, Suite 106, Grand Junction, Colorado 81506; telephone (970) 248-0654; faxogram (970) 248-0601; or e-mail: aspinalleis@uc.usbr.gov. Written comments should be received no later than March 15, 2004, to be most effectively considered.

Those not desiring to submit comments or suggestions at this time, but who would like to receive a copy of the draft EIS, should contact Ed Warner at the above address or send an e-mail request to aspinalleis@uc.usbr.gov. When the draft EIS is complete, its availability will be announced in the Federal Register, in the local news media, and through direct contact with interested parties. Comments will be solicited on the draft document.

FOR FURTHER INFORMATION CONTACT: Ed Warner, Bureau of Reclamation, Western Colorado Area Office, 2764 Compass Drive, Suite 106, Grand Junction, Colorado 81506; telephone (970) 248-0654; e-mail: ewarner@uc.usbr.gov; or Steve McCall, Bureau of Reclamation, Western Colorado Area Office, 2764 Compass Drive, Suite 106, Grand Junction, Colorado 81506; telephone (970) 248-0638; e-mail: smccall@uc.usbr.gov.

SUPPLEMENTARY INFORMATION: The purpose of Reclamation's proposed action is to operate the Aspinall Unit to avoid jeopardy to endangered species while maintaining the congressionally authorized Unit purposes. Alternative operations will be considered. Authorized purposes include (1) Regulating the flow of the Colorado River, (2) storing water for beneficial consumptive use, (3) providing for the reclamation of arid and semi-arid land, (4) providing for the generation of hydroelectric power, (5) providing for fish and wildlife enhancement and public recreation, (6) providing for the control of floods, and (7) allowing the Upper Basin States to develop Colorado River Compact apportioned waters.

The Aspinall Unit is located on the Gunnison River in Gunnison and Montrose Counties, Colorado, and consists of Blue Mesa, Morrow Point and Crystal Reservoirs, Dams, and Powerplants. Blue Mesa Reservoir is the most upstream reservoir and is the largest reservoir in Colorado. Blue Mesa and Morrow Point Reservoirs currently operate to meet peaking power demands for the Colorado River Storage Project (CRSP). Crystal Reservoir, the most downstream reservoir, is operated to regulate flows in the Gunnison River.

Flow Recommendations

The U.S. Fish and Wildlife Service (Service) published flow recommendations entitled Flow Recommendations to Benefit Endangered Fishes in the Colorado and Gunnison Rivers in July 2003. In general, the flow recommendations call for higher flows in the spring and moderate baseflows the remainder of the year. Reclamation will develop alternatives to address the Service's flow recommendations. These alternatives will be the basis of analysis for this EIS. Copies of the flow recommendations are available on the Internet at http://www.r6.fws.gov/crrip/doc/GunnCoflowrec.pdf.

Aspinall Unit and the Colorado River Storage Project

The Aspinall Unit was authorized in 1956 as part of the CRSP. The CRSP provides for comprehensive development of the Upper Colorado River Basin by furnishing the long-term water storage needed to permit states in the Upper Basin to meet their flow obligation at Lee Ferry, Arizona, as defined in the Colorado River Compact, and still utilize their apportioned water. The CRSP includes four storage units: Glen Canyon on the Colorado River, Flaming Gorge on the Green River, Navajo on the San Juan River, and Aspinall on the Gunnison River. The reservoirs formed by the four units of the CRSP have a total capacity of nearly 34 million acre-feet.

Reclamation is required to comply with the ESA for operations of CRSP facilities, including the Aspinall Unit. Within the exercise of its discretionary authority, Reclamation must avoid jeopardizing the continued existence of listed species and destroying or adversely modifying designated critical habitat.

The Aspinall Unit was constructed between 1963 and 1977 and consists of a series of three dams and reservoirs (Blue Mesa, Morrow Point, and Crystal) along a 40-mile reach of the Gunnison River. Primary water storage occurs in the uppermost and largest reservoir, Blue Mesa. Powerplants at Blue Mesa and Morrow Point are operated on a peaking basis, while the dam and powerplant at Crystal are operated to regulate downstream flows. Since 1965, recreational development and use of lands associated with the Aspinall Unit has been managed by the National Park Service as the Curecanti Recreation Area. The Western Area Power Administration markets hydropower from the Aspinall Unit. Fish and wildlife facilities, including wildlife areas and fishing easements, are managed by other agencies.

Reclamation operates the Aspinall Unit within certain sideboards including annual hydrologic conditions, senior water rights, minimum downstream flow requirements, powerplant and outlet capacities, reservoir elevation targets, fishery management recommendations, and others. Some sideboards can be considered mandates, such as honoring senior water rights and flood control, while others, such as reservoir elevation criteria to reduce landslides, are given a high priority. To conserve water for later use, an operational target is to fill Blue Mesa Reservoir by the end of July. Another operational target is to draw Blue Mesa Reservoir down to an elevation of 7,490 feet by December 31 to provide space for the next spring's runoff, and to avoid ice damage upstream. In general, operation of the Aspinall Unit has reduced downstream spring peak flows and increased flows during the remainder of the year.

The Aspinall Unit was largely completed prior to passage of the Endangered Species Act in 1973. Operation of the Unit, which is located upstream from historical habitat of four endangered fish species, changed the flow regime of the lower Gunnison and Colorado Rivers within what is now critical habitat for the Colorado pikeminnow, razorback sucker, humpback chub, and bonytail. ESA consultation on the operation of the Aspinall Unit will be completed concurrently with the EIS process.

Upper Colorado River Endangered Fish Recovery Program

Since 1988, Reclamation and the Upper Colorado River Endangered Fish Recovery Program (Recovery Program) have worked together to address upper Colorado River water issues. The Recovery Program is a partnership created to recover the endangered Colorado pikeminnow, razorback sucker, humpback chub, and bonytail while allowing for continued and future water development. The Recovery Program was initiated in 1988 when a cooperative agreement was signed by the Governors of Colorado, Utah, and Wyoming; the Secretary of the Interior; and the Administrator of the Western Area Power Administration. Recovery Program partners include the Colorado River Energy Distributors Association, Colorado Water Congress, Western Resource Advocates, State of Colorado, State of Utah, State of Wyoming, The Nature Conservancy, Reclamation, the Service, National Park Service, Utah Water Users Association, Western Area Power Administration, and Wyoming Water Association.

Public Disclosure

It is our practice to make comments, including names and home addresses of respondents, available for public review. Individual respondents may request that we withhold their home address from public disclosure, which we will honor to the extent allowable by law. There also may be circumstances in which we would withhold a respondent's identify from public disclosure, as allowable by law. If you wish us to withhold your name and/or address, you must state this prominently at the beginning of your comment. We will make all submissions from organizations or businesses, and from individuals identifying themselves as representatives or officials of organizations or businesses, available for public disclosure in their entirety.

Dated: January 14, 2004.
Connie L. Rupp,
Assistant Regional Director—UC Region, Bureau of Reclamation.

[FR Doc. 04-1171 Filed 1-20-04; 8:45 am]

BILLING CODE 4310-MN-P